DEPARTMENT OF THE INTERIOR

National Park Service

Notice of Inventory Completion: University of California, Riverside, Riverside, CA

AGENCY: National Park Service, Interior.

ACTION: Notice.

Notice is hereby given in accordance with provisions of the Native American Graves Protection and Repatriation Act (NAGPRA), 25 U.S.C. 3003, of the completion of an inventory of human remains in the possession of the University of California, Riverside, Riverside, CA. The human remains were removed from a site in Riverside County, CA.

This notice is published as part of the National Park Service's administrative responsibilities under NAGPRA, 25 U.S.C. 3003(d)(3). The determinations within this notice are the sole responsibility of the museum, institution, or Federal agency that has control of the Native American human remains. The National Park Service is not responsible for the determinations within this notice.

A detailed assessment of the human remains was made by professional staff of the University of California, Riverside in consultation with the Luiseño Intertribal NAGPRA Coalition, representing the interests of the La Jolla Band of Luiseño Mission Indians of the La Jolla Reservation, California; Pala Band of Luiseño Mission Indians of the Pala Reservation, California; Pauma Band of Luiseño Mission Indians of the Pauma & Yuima Reservation, California; Pechanga Band of Luiseño Mission Indians of the Pechanga Reservation, California; Rincon Band of Luiseño Mission Indians of the Rincon Reservation, California; and Soboba Band of Luiseño Indians, California.

In 1987, human remains representing one individual were excavated by the University of California, Riverside from site CA-RIV-333, Riverside County, CA. The human remains are a distal fragment of a middle phalanx. No known individual was identified. No associated funerary objects are present. Archaeological evidence from site CA-RIV-333 indicates that it was occupied during the Late Prehistoric period (A.D. 1500-1770). The human remains are believed to have been interred during the Late Prehistoric period occupation of site CA-RIV-333.

Archaeological evidence indicates a cultural continuity between the Late Prehistoric and Historic period occupants of Riverside County, CA. The Luiseño tribe is known to have occupied the Riverside County area during the Historic period. The Luiseño tribe is currently represented by the La Jolla Band of Luiseño Mission Indians of the La Jolla Reservation, California; Pala Band of Luiseño Mission Indians of the Pala Reservation, California; Pauma Band of Luiseño Mission Indians of the Pauma & Yuima Reservation, California; Pechanga Band of Luiseño Mission Indians of the Pechanga Reservation, California; Rincon Band of Luiseño Mission Indians of the Rincon Reservation, California; and Soboba Band of Luiseño Indians, California. Some individuals of Luiseño descent may also be members of the Campo Band of Diegueño Mission Indians of the Campo Indian Reservation, California, and San Pasqual Band of Diegueño Mission Indians of California.

Officials of the University of California, Riverside have determined that, pursuant to 25 U.S.C. 3001 (9-10), the human remains described above represent the physical remains of one individual of Native American ancestry. Officials of the University of California, Riverside also have determined that, pursuant to 25 U.S.C. 3001 (2), there is a relationship of shared group identity that can be reasonably traced between the Native American human remains and the La Jolla Band of Luiseño Mission Indians of the La Jolla Reservation, California; Pala Band of Luiseño Mission Indians of the Pala Reservation, California; Pauma Band of Luiseño Mission Indians of the Pauma & Yuima Reservation, California; Pechanga Band of Luiseño Mission Indians of the Pechanga Reservation, California; Rincon Band of Luiseño Mission Indians of the Rincon Reservation, California; and Soboba Band of Luiseño Indians, California.

Representatives of any other Indian tribe that believes itself to be culturally affiliated with the human remains should contact Philip J. Wilke, Department of Anthropology, 1334 Watkins Hall, University of California, Riverside, Riverside, CA 92521-0418, telephone (909) 787-5524, before May 27, 2003. Repatriation of the human remains to the Luiseño Intertribal NAGPRA Coalition, representing the interests of the La Jolla Band of Luiseño Mission Indians of the La Jolla Reservation, California; Pala Band of Luiseño Mission Indians of the Pala Reservation, California; Pauma Band of Luiseño Mission Indians of the Pauma & Yuima Reservation, California; Pechanga Band of Luiseño Mission Indians of the Pechanga Reservation, California; Rincon Band of Luiseño Mission Indians of the Rincon Reservation, California; and Soboba Band of Luiseño Indians, California may proceed after that date if no additional claimants come forward.

The University of California, Riverside is responsible for notifying the Kumeyaay Cultural Repatriation Committee and its constituent members, the Campo Band of Diegueño Mission Indians of the Campo Indian Reservation, California and San Pasqual Band of Diegueño Mission Indians of California; and Luiseño Intertribal NAGPRA Coalition and its constituent members, the La Jolla Band of Luiseño Mission Indians of the La Jolla Reservation, California; Pala Band of Luiseño Mission Indians of the Pala Reservation, California; Pauma Band of Luiseño Mission Indians of the Pauma & Yuima Reservation, California; Pechanga Band of Luiseño Mission Indians of the Pechanga Reservation, California; Rincon Band of Luiseño Mission Indians of the Rincon Reservation, California; and Soboba Band of Luiseño Indians, California that this notice has been published.

Dated: March 17, 2003.
John Robbins,
Assistant Director, Cultural Resources.

[FR Doc. 03-10031 Filed 4-24-03; 8:45 am]

BILLING CODE 4310-70-M